DEPARTMENT OF THE INTERIOR

Bureau of Land Management

[WY-040-1430-ES; WYW-134092]

Recreation and Public Purposes (R&PP) Act Classification, Sweetwater County, WY

AGENCY: Bureau of Land Management, Interior.

ACTION: Notice of realty action.

SUMMARY: The Bureau of Land Management (BLM) has examined and found suitable for classification for lease or conveyance under the provisions of the Recreation and Public Purposes Act, approximately 5 acres of public lands in Sweetwater County, Wyoming. The Ten Mile Water and Sewer District proposes to use the land for office and warehouse space for the District.

DATES: Interested persons may submit written comments to the BLM at the address stated below. Comments must be received by not later than September 6, 2005.

ADDRESSES: Bureau of Land Management, Rock Springs Field Office, 280 Highway 191 North, Rock Springs, Wyoming 82901.

FOR FURTHER INFORMATION CONTACT: Patricia Hamilton, Realty Specialist, at the above address or at (307) 352-0334.

SUPPLEMENTARY INFORMATION: The following described public land in Sweetwater County, Wyoming, has been examined and found suitable for classification for lease and/or conveyance under the provisions of the Recreation and Public Purposes (R&PP) Act, as amended (43 U.S.C. 8890 et seq.) and is hereby classified accordingly:

Sixth Meridian, Wyoming

T. 20 N., R. 105 W.

Sec. 20, SW¼SE¼

The land described contains 5.00 acres.

In accordance with the R&PP Act, the Ten-Mile Water and Sewer District has filed a R&PP Act petition/application and plan of development in which it is proposed to use the above described public lands for office and warehouse space needed by the District. The lands are not needed for Federal purposes. Lease or conveyance pursuant to the R&PP Act is consistent with the Green River Resource Area Management Plan, dated August 8, 1987, and would be in the public interest. The lease/conveyance, when issued, will be subject to the following terms, conditions, and reservations:

1. Provisions of the R&PP Act and to all applicable regulations, policy and including but not limited to the regulations stated in 43 CFR part 2740, guidance of the Secretary of the Interior.

2. Reservation of a right-of-way to the United States for ditches and canals pursuant to the Act of August 30, 1890, 43 U.S.C. 945.

3. All minerals shall be reserved to the United States, together with the right to prospect for mine, and remove the minerals under applicable laws and regulations established by the Secretary of the Interior.

4. Provided, that the land conveyed shall revert to the United States upon a finding, and after notice and opportunity for a hearing, that the patentee has not substantially developed the lands in accordance with the approved plan of development on or before the date five years after the date of conveyance. No portion of the land shall under any circumstance revert to the United States if any such portion has been used for solid waste disposal or for any other purpose which may result in the disposal, placement, or release of any hazardous substance.

5. If, at any time, the patentee validly transfers to another party ownership of any portion of the land not used for the purpose(s) specified in the application and the plan of development, the patentee shall pay the Bureau of Land Management the fair market value, as determined by the authorized officer, of the transferred portion as of the date of transfer, including the value of any improvements thereon.

6. All valid existing rights of record, including those documented on the official public land records at the time of lease/patent issuance.

Detailed information concerning the proposed action, including but not limited to documentation relating to compliance with applicable environmental and cultural resource laws, is available for review at the BLM, Rock Springs Field Office, 280 Highway 191 North, Rock Springs, Wyoming 82901, telephone: (307) 352-0334.

On July 21, 2005, the above described lands will be segregated from all other forms of appropriation under the public land laws, including the general mining laws, except for lease or conveyance under the Recreation and Public Purposes Act and leasing under the mineral leasing laws.

Interested parties may submit written comments regarding the proposed lease/conveyance or classification of the lands to the Field Manager, Rock Springs Field Office, at the address stated above in this notice for that purpose. Comments must be received by not later than September 6, 2005.

Classification Comments: Interested parties may submit comments involving the suitability of the land for an office building and warehouse facility. Comments on the classification are restricted to whether the land is physically suited for the proposal, whether the use will maximize the future use or uses of the land, whether the use is consistent with local planning and zoning, or if the use is consistent with State and Federal programs.

Application Comments: Interested parties may submit comments regarding the specific use proposed in the application and plan of development, whether the Bureau of Land Management followed proper administrative procedures in reaching the decision; or any other factor not directly related to the suitability of the land for an office building and warehouse.

Any adverse comments will be reviewed by the State Director, who may sustain, vacate, or modify this realty action. In the absence of any adverse comments, the classification will become effective 60 days after July 21, 2005.

(Authority: 43 CFR 2741.5)

Dated: June 23, 2005.
Michael R. Holbert,
Field Manager.

[FR Doc. 05-14314 Filed 7-20-05; 8:45 am]

BILLING CODE 4310-22-P